DEPARTMENT OF LABOR

Occupational Safety and Health Administration

[Docket No. OSHA-2006-0040]

SGS North America, Inc.: Grant of Expansion of Recognition and Modification to the NRTL Program's List of Appropriate Test Standards

AGENCY: Occupational Safety and Health Administration (OSHA), Labor.

ACTION: Notice.

SUMMARY: In this notice, OSHA announces the final decision to expand the scope of recognition for SGS North America, Inc., as a Nationally Recognized Testing Laboratory (NRTL). Additionally, OSHA announces the addition of fourteen test standards to the NRTL Program's List of Appropriate Test Standards.

DATES: The expansion of the scope of recognition becomes effective on April 18, 2019.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-2110; email: robinson.kevin@dol.gov. OSHA's web page includes information about the NRTL Program (see http://www.osha.gov/dts/otpca/nrtl/index.html).

SUPPLEMENTARY INFORMATION:

I. Notice of Final Decision

OSHA hereby gives notice of the expansion of the scope of recognition of SGS North America, Inc. (SGS), as a NRTL. SGS's expansion covers the addition of sixty-three test standards to its scope of recognition. Additionally, OSHA announces the addition of fourteen test standards to the NRTL Program's List of Appropriate Test Standards.

OSHA recognition of a NRTL signifies that the organization meets the requirements specified by 29 CFR 1910.7. Recognition is an acknowledgment that the organization can perform independent safety testing and certification of the specific products covered within its scope of recognition and is not a delegation or grant of government authority. As a result of recognition, employers may use products properly approved by the NRTL to meet OSHA standards that require testing and certification of the products.

The agency processes applications by a NRTL for initial recognition, or for expansion or renewal of this recognition, following requirements in Appendix A to 29 CFR 1910.7. This appendix requires that the agency publish two notices in the Federal Register in processing an application. In the first notice, OSHA announces the application and provides a preliminary finding and, in the second notice, the agency provides the final decision on the application. These notices set forth the NRTL's scope of recognition or modifications of that scope. OSHA maintains an informational web page for each NRTL that details its scope of recognition. These pages are available from the agency's website at http://www.osha.gov/dts/otpca/nrtl/index.html.

SGS submitted eleven applications to OSHA to expand its recognition as a NRTL to include sixty-three additional test standards. These applications were consolidated into a single application and submitted to OSHA on October 4, 2018 (OSHA-2006-0040-0036). OSHA staff performed a detailed analysis of the application packet and reviewed other pertinent information. OSHA did not perform any on-site reviews in relation to this application.

OSHA published the preliminary notice announcing SGS's expansion applications and proposed addition to the NRTL List of Appropriate Test Standards in the Federal Register on February 7, 2019 (84 FR 2583). The agency requested comments by February 22, 2019, but received no comments in response to this notice. OSHA now is proceeding with this final notice to grant expansion of SGS's scope of recognition.

To obtain or review copies of all public documents pertaining to SGS's application, go to http://www.regulations.gov or contact the Docket Office, Occupational Safety and Health Administration, U.S. Department of Labor, 200 Constitution Avenue NW, Room N-3653, Washington, DC 20210. Docket No. OSHA-2006-0040 contains all materials in the record concerning SGS's recognition.

II. Final Decision and Order

OSHA staff examined SGS's expansion applications, the capability to meet the requirements of the test standards, and other pertinent information. Based on a review of this evidence, OSHA finds that SGS meets the requirements of 29 CFR 1910.7 for expansion of the recognition, subject to the specified limitation and conditions listed. OSHA, therefore, is proceeding with this final notice to grant SGS's scope of recognition. OSHA limits the expansion of SGS's recognition to testing and certification of products for demonstration of conformance to the test standard listed, in Table 1.

Table 1—List of Appropriate Test Standard for Inclusion in SGS's NRTL Scope of Recognition
Test standard | Test standard title
UL 82 | Standard for Electric Gardening Appliances.
UL 588 | Standard for Seasonal and Holiday Decorative Products.
UL 1573 | Standard for Stage and Studio Luminaires and Connector Strips.
UL 1598C | Standard for Light-Emitting Diode (LED) Retrofit Luminaire Conversion Kits.
UL 1838 | Standard for Low Voltage Landscape Lighting Systems.
UL 2388 | Standard for Flexible Lighting Products.
UL 496 | Lampholders.
UL 924 | Standard for Emergency Lighting and Power Equipment.
UL 935 | Standard for Fluorescent-Lamp Ballasts.
UL 8752 | Standard for Organic Light Emitting Diode (OLED) Panels.
UL 962 | Standard for Household and Commercial Furnishings.
UL 1029 | Standard for High-Intensity-Discharge Lamp Ballasts.
UL 1598A | Standard for Supplemental Requirements for Luminaries for Installation on Marine Vessels.
UL 234 | Standard for Low Voltage Lighting Fixtures for Use in Recreational Vehicles.
UL 499 | Standard for Electric Heating Appliances.
UL 2021 | Standard for Fixed and Location-Dedicated Electric Room Heaters.
UL 1017 | Vacuum Cleaners, Blower Cleaners, and Household Floor Finishing Machines.
UL 778 | Standard for Motor-Operated Water Pumps.
UL 998 | Humidifiers.
UL 859 | Standard for Household Electric Personal Grooming Appliances.
UL 1082 | Standard for Household Electric Coffee Makers and Brewing-Type Appliances.
UL 1083 | Household Electric Skillets and Frying-Type Appliances.
UL 1647 | Standard for Motor-Operated Massage and Exercise Machines.
UL 1278 | Standard for Movable and Wall- or Ceiling-Hung Electric Room Heaters.
UL 471 | Standard for Commercial Refrigerators and Freezers.
UL 197 | Standard for Commercial Electric Cooking Appliances.
UL 541 | Standard for Refrigerated Vending Machines.
UL 563 | Standard for Ice Makers.
UL 858 | Standard for Household Electric Ranges.
UL 561 | Standard for Floor-Finishing Machines.
UL 867 | Standard for Electrostatic Air Cleaners.
UL 2157 | Electric Clothes Washing Machines and Extractors.
UL 2158 | Electric Clothes Dryers.
UL 174 | Standard for Household Electric Storage Tank Water Heaters.
UL 621 | Standard for Ice Cream Makers.
UL 923 | Standard for Microwave Cooking Appliances.
UL 62109-1 | Standard for Safety of Power Converters for use in Photovoltaic Power Systems—Part 1: General Requirements.
UL 61010-2-010 | Safety Requirements for Electrical Equipment for Measurement, Control and Laboratory Use—Part 2-010: Particular Requirements for Laboratory Equipment for the Heating of Materials.
UL 61010-2-030 | Safety Requirements for Electrical Equipment for Measurement, Control, and Laboratory Use—Part 2-030: Particular Requirements for Testing and Measuring Circuits.
UL 583 | Standard for Electric-Battery-Powered Industrial Trucks.
UL 749 | Household Dishwashers.
UL 921 | Commercial Dishwashers.
UL 979 | Standard for Water Treatment Appliances.
UL 1206 | Standard for Electric Commercial Clothes-Washing Equipment.
UL 1240 | Standard for Electric Commercial Clothes-Drying Equipment.
UL 1450 | Standard for Motor-Operated Air Compressors, Vacuum Pumps, and Painting Equipment.
UL 1995 | Heating and Cooling Equipment.
UL 674 | Electric Motors and Generators for Use in Hazardous (Classified) Locations.
UL 698A | Standard for Industrial Control Panels Relating to Hazardous (Classified) Locations.
UL 6141 | Standard for Wind Turbines Permitting Entry of Personnel.
UL 61010-2-020 | Standard for Safety Requirements for Electrical Equipment for Measurement, Control, and Laboratory Use—Part 2-020: Particular Requirements for Laboratory Centrifuges.
UL 1004-9 | Standard for Form Wound and Medium Voltage Rotating Electrical Machines.
UL 3703 | Standard for Solar Trackers.
UL 9540 | Standard for Energy Storage Systems and Equipment.
UL 62841-1 | Electric Motor-Operated Hand-Held Tools, Transportable Tools and Lawn and Garden Machinery—Safety—Part 1: General Requirements.
UL 62841-2-2 | Electric Motor-Operated Hand-Held Tools, Transportable Tools and Lawn and Garden Machinery—Safety—Part 2-2: Particular Requirements for Hand-Held Screwdrivers and Impact Wrenches.
UL 62841-2-4 | Electric Motor-Operated Hand-Held Tools, Transportable Tools and Lawn and Garden Machinery—Safety—Part 2-4: Particular Requirements for Hand-Held Sanders and Polishers Other Than Disc Type.
UL 62841-2-5 | Electric Motor-Operated Hand-Held Tools, Transportable Tools and Lawn and Garden Machinery—Safety—Part 2-5: Particular Requirements for Hand-Held Circular Saws.
UL 62841-2-9 | Electric Motor-Operated Hand-Held Tools, Transportable Tools and Lawn and Garden Machinery—Safety—Part 2-9: Particular Requirements for Hand-Held Tappers and Threaders.
UL 62841-2-14 | Electric Motor-Operated Hand-Held Tools, Transportable Tools and Lawn and Garden Machinery—Safety—Part 2-14: Particular Requirements for Hand-Held Planers.
UL 62841-3-1 | Electric Motor-Operated Hand-Held Tools, Transportable Tools and Lawn and Garden Machinery—Safety—Part 3-1: Particular Requirements for Transportable Table Saws.
UL 62841-3-9 | Electric Motor-Operated Hand-Held Tools, Transportable Tools and Lawn and Garden Machinery—Safety—Part 3-9: Particular Requirements For Transportable Mitre Saws.
UL 62841-3-10 | Electric Motor-Operated Hand-Held Tools, Transportable Tools and Lawn and Garden Machinery—Safety—Part 3-10: Particular Requirements For Transportable Cut-Off Machines.

In this notice, OSHA also announces the addition of fourteen new test standards to the NRTL Program's List of Appropriate Test Standards. Table 2, below, lists the test standards that are new to the NRTL Program. OSHA has determined that these test standards are appropriate test standards and will include them in the NRTL Program's List of Appropriate Test Standards.

Table 2—Test Standard OSHA Is Adding to the NRTL Program's List of Appropriate Test Standards
Test standard | Test standard title
UL 6141 | Standard for Wind Turbines Permitting Entry of Personnel.
UL 61010-2-020 | Standard for Safety Requirements for Electrical Equipment for Measurement, Control and Laboratory Use—Part 2-020: Particular Requirements for Laboratory Centrifuges.
UL 1004-9 | Standard for Form Wound and Medium Voltage Rotating Electrical Machines.
UL 3703 | Standard for Solar Trackers.
UL 9540 | Standard for Energy Storage Systems and Equipment.
UL 62841-1 | Electric Motor-Operated Hand-Held Tools, Transportable Tools and Lawn and Garden Machinery—Safety—Part 1: General Requirements.
UL 62841-2-2 | Electric Motor-Operated Hand-Held Tools, Transportable Tools and Lawn and Garden Machinery—Safety—Part 2-2: Particular Requirements for Hand-Held Screwdrivers and Impact Wrenches.
UL 62841-2-4 | Electric Motor-Operated Hand-Held Tools, Transportable Tools and Lawn and Garden Machinery—Safety—Part 2-4: Particular Requirements for Hand-Held Sanders And Polishers Other Than Disc Type.
UL 62841-2-5 | Electric Motor-Operated Hand-Held Tools, Transportable Tools and Lawn And Garden Machinery—Safety—Part 2-5: Particular Requirements for Hand-Held Circular Saws.
UL 62841-2-9 | Electric Motor-Operated Hand-Held Tools, Transportable Tools and Lawn and Garden Machinery—Safety—Part 2-9: Particular Requirements for Hand-Held Tappers and Threaders.
UL 62841-2-14 | Electric Motor-Operated Hand-Held Tools, Transportable Tools and Lawn And Garden Machinery—Safety—Part 2-14: Particular Requirements for Hand-Held Planers.
UL 62841-3-1 | Electric Motor-Operated Hand-Held Tools, Transportable Tools and Lawn and Garden Machinery—Safety—Part 3-1: Particular Requirements for Transportable Table Saws.
UL 62841-3-9 | Electric Motor-Operated Hand-Held Tools, Transportable Tools and Lawn and Garden Machinery—Safety—Part 3-9: Particular Requirements for Transportable Mitre Saws.
UL 62841-3-10 | Electric Motor-Operated Hand-Held Tools, Transportable Tools and Lawn and Garden Machinery—Safety—Part 3-10: Particular Requirements for Transportable Cut-Off Machines.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, the use of the designation of the standards-developing organization for the standard as opposed to the ANSI designation may occur. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, SGS must abide by the following conditions of the recognition:

1. SGS must inform OSHA as soon as possible, in writing, of any change of ownership, facilities, or key personnel, and of any major change in its operations as a NRTL, and provide details of the change(s);

2. SGS must meet all the terms of its recognition and comply with all OSHA policies pertaining to this recognition; and

3. SGS must continue to meet the Requirements for recognition, including all previously published conditions on SGS's scope of recognition, in all areas for which it has recognition.

Pursuant to the authority in 29 CFR 1910.7, OSHA hereby expands the scope of recognition of SGS, subject to the limitation and conditions specified above.

III. Authority and Signature

Loren Sweatt, Acting Assistant Secretary of Labor for Occupational Safety and Health, authorized the preparation of this notice. Accordingly, the agency is issuing this notice pursuant to 29 U.S.C. 657(g)(2), Secretary of Labor's Order No. 1-2012 (77 FR 3912, Jan. 25, 2012), and 29 CFR 1910.7.

Signed at Washington, DC, on April 10, 2019.
Loren Sweatt,
Acting Assistant Secretary of Labor for Occupational Safety and Health.

[FR Doc. 2019-07728 Filed 4-17-19; 8:45 am]

BILLING CODE 4510-26-P